NATIONAL CREDIT UNION ADMINISTRATION

Renewal of Agency Information Collections of Previously Approved Collections; Request for Comments

AGENCY: National Credit Union Administration (NCUA).

ACTION: Notice of submission to the Office of Management and Budget.

SUMMARY: As required by the Paperwork Reduction Act of 1995, The National Credit Union Administration (NCUA) is submitting the following extensions and revisions of currently approved collections to the Office of Management and Budget (OMB) for renewal.

DATES: Written comments should be received on or before March 30, 2026 to be assured consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Dacia Rogers at (703) 518-6547, emailing PRAComments@ncua.gov, or viewing the entire information collection request at www.reginfo.gov.

SUPPLEMENTARY INFORMATION:

OMB Number: 3133-0032.

Title: Records Preservation, 12 CFR part 749.

Type of Review: Revision of a currently approved collection.

Abstract: Part 749 of the NCUA Regulations directs each credit union to have a vital records preservation program that includes procedures for maintaining duplicate vital records at a location far enough from the credit union's offices to avoid the simultaneous loss of both sets of records in the event of disaster. Part 749 also requires the program be in writing and include emergency contact information for employees, officials, regulatory offices, and vendors used to support vital records.

Affected Public: Private Sector: Not-for-profit institutions.

Estimated Number of Respondents: 4,339.

Estimated Number of Responses per Respondent: 1.

Estimated Total Annual Responses: 4,339.

Estimated Hours per Response: varies.

Estimated Total Annual Burden Hours: 8,726.

Reason for Change: The number of respondents decreased from 4,853 to 4,339.

OMB Number: 3133-0052.

Title: Federal Credit Union Bylaws, Appendix A to Part 701.

Type of Review: Extension of a previously approved collection.

Abstract: The FCU Act and Bylaws require new and current FCU to prepare and maintain documents, such as organization certificate, charter, notices, meeting minutes, and election results, and notify the NCUA Board of certain changes. FCU's use the information they collect and maintain pursuant to their bylaws in their operations and to provide services to members. NCUA uses the information both to regulate the safety and soundness of FCU and protect the National Credit Union Share Insurance Fund.

Affected Public: Private Sector: Not-for-profit institutions.

Estimated Number of Respondents: 2,766.

Estimated Number of Responses per Respondent: varies.

Estimated Total Annual Responses: 3,027,028.

Estimated Hours per Response: varies.

Estimated Total Annual Burden Hours: 346,893.

Reason for Change: The number of respondents decreased from 3,335 to 2,766.

OMB Number: 3133-0059.

Title: Supervisory Committee Audits and Verifications, 12 CFR 715.

Type of Review: Extension of a previously approved collection.

Abstract: The rule specifies the minimum annual audit a credit union is required to obtain according to its charter type and asset size, the licensing authority required of persons performing certain audits, the auditing principles that apply to certain audits, and the accounting principles that must be followed in reports filed with the NCUA Board.

Affected Public: Private Sector: Not-for-profit institutions.

Estimated Number of Respondents: 4,411.

Estimated Number of Responses per Respondent: 1.

Estimated Total Annual Responses: 19,850.

Estimated Hours per Response: varies.

Estimated Total Annual Burden Hours: 11,029.

Reason for Change: The number of respondents decreased from 5,308 to 4,411.

OMB Number: 3133-0114.

Title: Payments on Shares by Public Units and Nonmembers, 12 CFR 701.32.

Type of Review: Extension of a previously approved collection.

Abstract: Section 107(6) of the Federal Credit Union Act (Act) and § 701.32 of the NCUA Rules and Regulations (12 CFR part 701) may receive from public units and political subdivisions and non-member credit unions, payments on shares. Limitations on non-member and public unit deposits in federal credit unions (FCUs) is 50 percent of the difference of paid-in and unimpaired capital and surplus and any public unit and non-member shares, as measured at the time of acceptance of each public unit or non-member share. This collection of information is necessary to protect the National Credit Union Share Insurance Fund (NCUSIF).

Affected Public: Private Sector: Not-for-profit institutions.

Estimated Number of Respondents: 10.

Estimated Number of Responses per Respondent: 1.

Estimated Total Annual Responses: 10.

Estimated Hours per Response: 2.

Estimated Total Annual Burden Hours: 20.

Reason for Change: The number of respondents required to complete the plan decreased.

OMB Number: 3133-0146.

Title: Production of Nonpublic Records and Testimony of Employees in Legal Proceedings.

Type of Review: Extension of a previously approved collection.

Abstract: The NCUA requires this information collection to handle requests and subpoenas from a party or parties seeking non-public records or the testimony of NCUA employees. The NCUA will use the information to decide how and whether it will disclose non-public records and/or permit employees to testify in legal proceedings.

Affected Public: Private Sector: Not-for-profit institutions.

Estimated Number of Respondents: 20.

Estimated Number of Responses per Respondent: 1.

Estimated Total Annual Responses: 20.

Estimated Hours per Response: 5.

Estimated Total Annual Burden Hours: 100.

OMB Number: 3133-0182.

Title: Bank Conversions and Mergers, 12 CFR part 708a.

Type of Review: Extension of a previously approved collection.

Abstract: Part 708a of NCUA's Rules and Regulations covers the conversion of federally insured credit unions (credit unions) to mutual savings banks (MSBs) and mergers of credit unions into both mutual and stock banks (banks). Part 708a requires credit unions that intend to convert to MSBs or merge into banks to provide notice and disclosure of their intent to convert or merge to their members and NCUA, and to conduct a membership vote. In addition, Subpart C requires credit unions that intend to merge into banks to determine the merger value of the credit union. The information collection allows NCUA to ensure compliance with statutory and regulatory requirements for conversions and mergers and ensures that members of credit unions have sufficient and accurate information to exercise an informed vote concerning a proposed conversion or merger.

Affected Public: Private Sector: Not-for-profit institutions.

Estimated Number of Respondents: 1.

Estimated Number of Responses per Respondent: varies.

Estimated Total Annual Responses: 13.

Estimated Hours per Response: varies.

Estimated Total Annual Burden Hours: 217.

Reason for Change: The annual burden hours decreased due to adjustments made to the response times for recordkeeping and disclosures.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2026-03802 Filed 2-25-26; 8:45 am]

BILLING CODE 7535-01-P